DEPARTMENT OF THE INTERIOR

Bureau of Ocean Energy Management

Bureau of Safety and Environmental Enforcement

[16761700D2 ET1EX0000.PEB000 EEAA000000]

Notice of Availability: Well Stimulation Treatments on the Pacific Outer Continental Shelf

AGENCY: Bureau of Ocean Energy Management (BOEM), and Bureau of Safety and Environmental Enforcement (BSEE), Interior.

ACTION: Notice of availability.

SUMMARY: BOEM and BSEE are announcing the availability of a Programmatic Environmental Assessment (PEA) and Finding of No Significant Impact (FONSI) for well stimulation treatments (WSTs) on the Pacific Outer Continental Shelf (OCS). This Notice of Availability (NOA) is published pursuant to implement the provisions of the National Environmental Policy Act (NEPA) of 1969, as amended. The PEA evaluates potential environmental effects of WSTs on the Pacific OCS. These activities include: fracturing WSTs (diagnostic fracture injection tests; hydraulic fracturing (e.g., frac pacs); and acid fracturing) and non-fracturing WSTs (matrix acidizing and polymer/surfactant injection). BOEM and BSEE are also issuing a FONSI supported by the analysis in the PEA. The FONSI concludes that the reasonably foreseeable environmental impacts associated with the proposed action and alternatives, as set forth in the PEA, would not significantly impact the quality of the human environment; therefore, the preparation of an Environmental Impact Statement is not required.

FOR FURTHER INFORMATION CONTACT: Mr. Rick Yarde, Regional Supervisor, Office of the Environment, Pacific Region BOEM, (805) 384-6379 or Mr. David Fish, Acting Chief Environmental Compliance Division BSEE, (202) 208-3599.

SUPPLEMENTARY INFORMATION: In February 2016, BOEM and BSEE released for public review and comment a draft PEA to evaluate potential environmental effects of WSTs on the Pacific OCS. A notice of availability was published on February 22, 2016, to announce the availability of the draft PEA and initiate a 30-day comment period. A comment and response appendix has been added to the final PEA, and where appropriate the analysis in the final PEA was clarified or revised based on comments received during the comment period.

To obtain a copy of the PEA and FONSI:

1. You may download or view the documents on the following Web site: http://pocswellstim.evs.anl.gov.

2. You may obtain a hard copy of the documents by contacting either Mr. Rick Yarde or Mr. David Fish.

Dated: May 24, 2016.
Amanda C. Leiter,
Deputy Assistant Secretary—Land and Minerals Management.

[FR Doc. 2016-12718 Filed 5-27-16; 8:45 am]

BILLING CODE 4310-VH-P